DEPARTMENT OF STATE

[Public Notice 5032]

Bureau of Nonproliferation; Extension of Waiver of Missile Proliferation Sanctions Against Chinese Government Activities

AGENCY: Department of State.

ACTION: Notice.

SUMMARY: A determination has been made to extend the waiver of import sanctions against certain activities of the Chinese Government that was announced on September 19, 2003, pursuant to the Arms Export Control Act, as amended.

EFFECTIVE DATE: March 18, 2005.

FOR FURTHER INFORMATION CONTACT: Vann H. Van Diepen, Office of Chemical, Biological and Missile Nonproliferation, Bureau of Nonproliferation, Department of State ((202) 647-1142).

SUPPLEMENTARY INFORMATION: A determination was made on September 9, 2004, pursuant to section 73(e) of the Arms Export Control Act (22 U.S.C. 2797b(e)) that it was essential to the national security of the United States to waive for a period of six months the import sanction described in Section 73(a)(2)(C) of the Arms Export Control Act (22 U.S.C. 2797b(a)(2)(C)) against the activities of the Chinese Government described in section 74(a)(8)(B) of the Arms Export Control Act (22 U.S.C. 2797c(a)(8)(B))—i.e., activities of the Chinese government relating to the development or production of any missile equipment or technology and activities of the Chinese government affecting the development or production of electronics, space systems or equipment, and military aircraft (see Federal Register Vol. 68, no. 182, Friday, Sept. 19, 2003). This action was effective on September 18, 2004.

On March 17, 2005, a determination was made pursuant to section 73(e) of the Arms Export Control Act (22 U.S.C. 2797b(e)) that it is essential to the national security of the United States to extend the waiver period for an additional six months, effective from the date of expiration of the previous waiver (March 18, 2005).

These measures shall be implemented by the responsible agencies as provided in Executive Order 12851 of June 11, 1993.

Dated: March 18, 2005.
Mark T. Fitzpatrick,
Deputy Assistant Secretary, Acting , Bureau of Nonproliferation, Department of State.

[FR Doc. 05-5738 Filed 3-21-05; 8:45 am]

BILLING CODE 4710-27-P